DEPARTMENT OF COMMERCE

National Oceanic and Atmospheric Administration

RIN 0648-XG057

Endangered Species; File No. 21366

AGENCY: National Marine Fisheries Service (NMFS), National Oceanic and Atmospheric Administration (NOAA), Commerce.

ACTION: Notice; receipt of application.

SUMMARY: Notice is hereby given that Margaret Lamont, Ph.D., U.S. Geological Survey, 7320 NW 71st St., Gainesville, FL 32653, has applied in due form for a permit to take green (Chelonia mydas), Kemp's ridley (Lepidochelys kempii), loggerhead (Caretta caretta) and hawksbill (Eretmochelys imbricata) sea turtles for purposes of scientific research.

DATES: Written, telefaxed, or email comments must be received on or before April 4, 2018.

ADDRESSES: The application and related documents are available for review by selecting “Records Open for Public Comment” from the “Features” box on the Applications and Permits for Protected Species (APPS) home page, https://apps.nmfs.noaa.gov, and then selecting File No. 21366 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

Dr. Lamont proposes to study green, Kemp's ridley, loggerhead, and hawksbill sea turtles in the northern Gulf of Mexico. The objectives of the work are to (1) assess spatial habitat use by sea turtles, (2) define vital rates for juvenile turtles, and (3) examine impacts of cold stunning on turtle ecology. Up to 60 loggerhead, 210 green, 200 Kemp's ridley and 10 hawksbill sea turtles annually would be captured by hand, dip net, tangle net, or strike net. Upon capture, researchers would examine, temporarily mark, measure, and biologically sample sea turtles before release. A subset of turtles would also receive up to two transmitters prior to release and may be manually tracked after release. The permit would be valid for up to 10 years from the date of issuance.

Dated: February 27, 2018.
Julia Harrison,
Chief, Permits and Conservation Division, Office of Protected Resources, National Marine Fisheries Service.

[FR Doc. 2018-04360 Filed 3-2-18; 8:45 am]

BILLING CODE 3510-22-P